DEPARTMENT OF COMMERCE

International Trade Administration

[A-357-812]

Honey From Argentina: Final Results of Antidumping Duty Administrative Review

AGENCY: Import Administration, International Trade Administration, Department of Commerce.

SUMMARY: The Department of Commerce (“the Department”) has conducted an administrative review of the antidumping duty order on honey from Argentina produced and/or exported by Asociacion de Cooperativas Argentinas (“ACA”), HoneyMax S.A. (“HoneyMax”), Nexco S.A. (“Nexco”), Seylinco S.A. (“Seylinco”), and TransHoney S.A. (“TransHoney”). The period of review (“POR”) is May 11, 2001, to November 30, 2002. Based on our analysis of comments received, the margin calculation for these final results differ slightly from the preliminary results for Seylinco. The margin calculation for these final results are listed below in the “Final Results of Review” section.

EFFECTIVE DATE: May 27, 2004.

FOR FURTHER INFORMATION CONTACT: Angela Strom for Asociacion de Cooperativas Argentinas (“ACA”) and Nexco S.A. (“Nexco”), Brian Sheba for HoneyMax S.A. (“HoneyMax”) and Seylinco S.A. (“Seylinco”), David Cordell for TransHoney S.A. (“TransHoney”), or Donna Kinsella, Enforcement Group III, Office 8, Import Administration, International Trade Administration, U.S. Department of Commerce, 14th Street and Constitution Avenue, NW., Room 7866, Washington, DC 20230; telephone (202) 482-2704, (202) 482-0145, (202) 482-0408, (202) 482-0194 respectively.

SUPPLEMENTARY INFORMATION:

Background

This notice concerns the final results of the first review of the antidumping duty order on honey from Argentina. See Notice of Final Determination of Sales at Less Than Fair Value; Honey from Argentina, 66 FR 50611 (Oct. 4, 2001). The review covers sales of honey exported by five exporters: Asociacion de Cooperativas Argentinas (“ACA”), HoneyMax S.A. (“HoneyMax”), Nexco S.A. (“Nexco”), Seylinco S.A. (“Seylinco”), and TransHoney S.A. (“TransHoney”) (collectively, “the respondents”), over the period of May 11, 2001 through November 30, 2002.

On December 31, 2002, the American Honey Producers Association and the Sioux Honey Association (collectively “petitioners”) requested an administrative review of the antidumping duty order on honey from Argentina in response to the Department's notice of opportunity to request a review published in the Federal Register. See Notice of Antidumping Duty Order: Honey from Argentina, 66 FR 63672 (Dec. 10, 2001). The petitioners requested the Department conduct an administrative review of entries of subject merchandise made by 21 Argentine producers/exporters. In addition, the Department received requests for review from 9 Argentine exporters. See Initiation of Antidumping and Countervailing Duty Administrative Reviews and Request for Revocation in Part, 68 FR 3009 (Jan. 22, 2003).

The Department initiated the review for all companies. On January 17, 2003, petitioners withdrew their request for review of 14 companies and the Department granted this request. See Notice of Partial Rescission of Antidumping Duty Administrative Review, 68 FR 13895 (Mar. 21, 2003).

Based on withdrawals of request for review from Compania Apicola Argentina S.A. and Mielar S.A., the Department rescinded the review with respect to these two companies. See Notice of Partial Rescission of Antidumpting Duty Administrative Review, 68 FR 25568 (May 13, 2003). On August 13, 2003, Radix S.R.L. (“Radix”) and Compania Europeo Americana S.A. (“CEASA”), submitted letters of withdrawal of request for review. On the same date, petitioners also submitted a letter of withdrawal of request for review with respect to Radix and CEASA. The Department granted these requests and subsequently rescinded the review with respect to Radix and CEASA. See Notice of Partial Rescission of Antidumping Duty Administrative Review, 68 FR 52386 (Sept. 3, 2003).

Pursuant to the time limits for administrative reviews set forth in section 751(a)(3)(A) of the Tariff Act of 1930, as amended (“the Act”), the original time limit for the preliminary results of review was September 2, 2003. On July 23, 2003, we extended the time limit for the preliminary results of review to December 8, 2003. See Honey From Argentina; Extension of Time Limit for Preliminary Results of Administrative Review, 68 FR 43491 (Jul. 23, 2003). On November 26, 2003, the Department further extended the time limit for the preliminary results of review to December 31, 2003. See Honey From Argentina; Extension of Time Limit for Preliminary Results of Administrative Review, 68 FR 66399 (Nov. 26, 2003).

On January 6, 2004, the Department published the preliminary results of the antidumping duty order on honey from Argentina. See Honey from Argentina: Preliminary Results of Antidumping Duty Administrative Review, 69 FR 621 (Jan. 6, 2004) (“Preliminary Results”). Since publication of the preliminary results, we invited parties to comment.

Respondents submitted comments on the preliminary results as follows: ACA on February 6, 2004; HoneyMax on February 5, 2004; Nexco on February 5, 2004; Seylinco on February 5, 2004. TransHoney did not file comments. Petitioners filed comments on the preliminary results on February 6, 2004, and rebuttal comments on February 13, 2004. The respondents filed the following rebuttal comments to petitioners' February 6, 2004, comments: ACA on February 12, 2004, Nexco on February 12, 2004, Seylinco on February 12, 2004, and TransHoney on February 12, 2004. HoneyMax did not file rebuttal comments.

We also invited parties to comment on our post-preliminary sales below cost analysis for HoneyMax. HoneyMax submitted initial comments on the Department's cost analysis on March 31, 2004, and corrected comments on April 2, 2004. Petitioners submitted comments on April 5, 2004. Petitioners submitted rebuttal comments on April 7, 2004 and HoneyMax submitted rebuttal comments on April 8, 2004.

Scope of the Review

The merchandise under review is honey from Argentina. For purposes of this review, the products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise under review is currently classifiable under subheadings 0409.00.00, 1702.90.90, and 2106.90.99 of the Harmonized Tariff Schedule of the United States (HTSUS). Although the HTSUS subheadings are provided for convenience and CBP purposes, the Department's written description of the merchandise under this order is dispositive.

Analysis of Comments Received

The Department has received comments from respondents and petitioners, all of which are addressed in the “Issues and Decision Memorandum” from Joseph A. Spetrini, Deputy Assistant Secretary, Import Administration, to James J. Jochum, Assistant Secretary, Import Administration, dated May 21, 2004 (“Decision Memorandum”), which is hereby adopted by this notice. Attached to this notice as an Appendix is a list of the issues that respondents and petitioners have raised and to which we have responded in the Decision Memorandum. Parties can find a complete discussion of all issues raised in this review and the corresponding recommendations in this public memorandum, which is on file in the Department's Central Records Unit, located at 14th Street and Constitution Avenue, NW., Room B-099. In addition, a complete version of the Decision Memorandum can be accessed directly on the Import Administration Web site at http://ia.ita.doc.gov/frn/index.html. The paper copy and electronic version of the Decision Memorandum are identical in content.

Changes Since the Preliminary Results

Based on our analysis of comments received and findings at verification, we have made certain changes in the margin calculation. These changes are noted in various sections of the Decision Memorandum, accessible in B-099 and on the World Wide Web at http://ia.ita.doc.gov/frn/index.html.

Final Results of Review

We determine that the following dumping margins exist for the period May 11, 2001 through November 30, 2002.

Manufacturer/exporter | Weighted average margin (percentage)
Asociación de Cooperativas Argentinas | 0
HoneyMax S.A | 0
Nexco S.A | 0.87
Seylinco S.A | 0.60
TransHoney S.A | 0

Assessment

The Department shall determine, and U.S. Customs and Border Protection (Customs) shall assess, antidumping duties on all appropriate entries. In accordance with 19 CFR 351.212(b)(1), we have calculated importer-specific assessment rates. The Department will issue appropriate assessment instructions directly to Customs within 15 days of publication of these final results of review. With respect to constructed export price sales, we divided the total dumping margins for the reviewed sales by the total entered value of those reviewed sales for each importer. We will direct Customs to assess the resulting assessment rate against the entered Customs values for the subject merchandise on each of the importer's entries during the POR.

Cash Deposit Requirements

The following cash deposit requirements will be effective upon publication of the final results of this administrative review for all shipments of the subject merchandise entered, or withdrawn from warehouse, for consumption on or after the publication date, as provided for by section 751(a)(1) of the Act: (1) For the companies named above, the cash deposit rates will be the rates for these firms shown above, except that, for exporters with de minimis rates (i.e., less than 0.5 percent) no deposit will be required; (2) for previously-reviewed producers and exporters with separate rates, the cash deposit rate will be the company-specific rate established for the most recent period for which they were reviewed; and (3) for all other producers and exporters, the rate will be 36.59 percent, the “all others” rate established in the less than fair value investigation. See Notice of Final Determination of Sales at Less Than Fair Value; Honey From Argentina, 66 FR 50611 (Oct. 4, 2001). These deposit requirements, when imposed, shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation, which is subject to sanction.

We are issuing and publishing this determination and notice in accordance with sections 751(a)(1) and 777(i)(1) of the Act.

Dated: May 20, 2004.
James J. Jochum,
Assistant Secretary for Import Administration.

Appendix

List of Comments and Issues in the Decision Memorandum

Cost of Production (General)

1. Reported Bee Feed Costs

2. Labor Cost Data

3. Yields

4. Wholesale Price Index

5. Other Cost Issues

ACA

6. Foreign Exchange Loss

7. Testing Expenses

HoneyMax

8. HoneyMax Middleman

9. Beekeeper 13 Costs

10. Missing Fifth Supplier

11. Date of Sale

12. Credit Expenses

13. Initiation of Cost Investigation

14. CEP Profit Ratio

Nexco

15. Model Match Hierarchy

Seylinco

16. Sale Diverted From Third Country To The United States

17. Classification of Freight Charges

18. Unreported Bank Charges

Other Changes

19. HoneyMax Billing Adjustment

[FR Doc. 04-12038 Filed 5-26-04; 8:45 am]

BILLING CODE 3510-DS-P